DEPARTMENT OF HOMELAND SECURITY

Transportation Security Administration

[Docket No. TSA-2006-24191]

Intent To Request Extension From OMB of One Current Public Collection of Information: Transportation Worker Identification Credential (TWIC®) Program

AGENCY: Transportation Security Administration, DHS.

ACTION: 60-Day notice.

SUMMARY: The Transportation Security Administration (TSA) invites public comment on one currently approved Information Collection Request (ICR), Office of Management and Budget (OMB) control number 1652-0047, abstracted below that we will submit to OMB for an extension, in compliance with the Paperwork Reduction Act (PRA). The ICR describes the nature of the information collection and its expected burden. The collection involves the submission of biographic and biometric information that TSA uses to verify identity and conduct a security threat assessment (STA) for the Transportation Worker Identification Credential (TWIC®) Program, and a customer satisfaction survey.

DATES: Send your comments by February 10, 2025.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0047; Transportation Worker Identification Credential (TWIC®) Program. The TWIC program is a DHS program administered jointly by TSA and the United States (U.S.) Coast Guard (USCG) to mitigate threats and vulnerabilities in the national maritime transportation system. The program implements authorities set forth in the Aviation and Transportation Security Act (Public Law 107-71; Nov. 19, 2002; sec. 106), the Maritime Transportation Security Act of 2002 (Pub. L. 107-295; Nov. 25, 2002; sec. 102), and the Safe, Accountable, Flexible, Efficient Transportation Equity Act—A Legacy for Users (Pub. L. 109-59; Aug. 10, 2005; sec. 7105), codified at 49 U.S.C. 5103a(g). TSA and the USCG implemented these requirements through a rulemaking codified at 33 CFR parts 105 and 106, and 49 CFR part 1572.

TWIC is a common credential for all personnel requiring unescorted access to secure areas of facilities and vessels regulated pursuant to requirements in the Maritime Transportation Security Act and certain mariners holding USCG credentials. Individuals in the field of transportation who are required to undergo an STA in certain other programs, such as the Chemical Facility Anti-Terrorism Standards (CFATS) program, may also apply for a TWIC and the associated STA to satisfy CFATS program requirements.

Before issuing an individual a TWIC, TSA performs an STA that includes checks of criminal history, immigration, and terrorism records. To conduct the STA, TSA must collect the following:

• Certain biographic information, including name, address, date of birth and other information;

• Fingerprints and photographs of applicants; and

• A $125.25 fee from applicants to cover the cost of the STA, as required by law (see 6 U.S.C. 469).

TSA collects this information from applicants during an optional pre-enrollment step or during the enrollment session at an enrollment center. If TSA determines an individual has already completed a comparable STA through other governmental agencies, such as the TSA Hazardous Materials Endorsement program and U.S. Customs and Border Protection Free and Secure Trade Program, the individual is eligible for a reduced fee of $93.00.

If TSA determines that the applicant is eligible to receive a TWIC as a result of the STA, TSA issues and sends an activated TWIC card to the address provided by the applicant or notifies the applicant that their TWIC is ready for pick up and activation at an enrollment center. Once activated, this credential can be used for facility and vessel access control requirements to include card authentication, card validation, and identity verification.

Once issued by TSA, a TWIC card that is valid for five years. TWIC cards that are issued based on a comparable STA expire five years from the date the comparable STA was issued. In the event of a lost, damaged or stolen credential, the cardholder must notify TSA immediately and may request a replacement card online, via telephone or, from an enrollment center for a $60.00 fee.

Under 46 U.S.C. 70105(b)(2), as amended by section 809 of the USCG Authorization Act of 2010, Public Law 111-281 (Oct. 15, 2010), certain Merchant Mariners are not required to obtain a credential when they apply for their TWIC STA. Merchant Mariners qualified under this provision only pay the enrollment and vetting segment of the TWIC fee because TSA does not have to create the biometric credential. If a qualified mariner opts to not receive a TWIC card, TSA may collect a $98.25 fee to cover the cost of the STA.

TSA may also use the information to determine a TWIC holder's eligibility to participate in TSA's expedited screening program for air travel, TSA PreCheck® Application Program. Active (unexpired) TWIC holders who meet the eligibility requirements for TSA PreCheck may use their TWIC card's Credential Identification Number in the appropriate “known traveler number” field of an airline reservation to obtain expedited screening eligibility.

Some TWIC holders are eligible to renew their TWIC online. To be eligible to renew online, applicants must:

• Be U.S. Citizens, U.S. Nationals or Lawful Permanent Residents;

• Not have received their current TWIC based on a comparable STA;

• Have any name changes updated in TSA's system before initiating online renewal; and

• Have enrolled for their current TWIC card in person.

TSA will collect updated applicant data (e.g., address, contact information, eligibility questions, etc.) and a $117.25 fee to conduct a new STA.

TSA invites all TWIC applicants to complete an optional survey to gather information on the applicants' overall customer satisfaction with the enrollment process. This optional survey is administered by a Enrollment Agent (a representative of the TWIC enrollment service provider, who performs enrollment functions) during the process to activate the TWIC. These surveys are collected at each enrollment center and compiled to produce reports that are reviewed by the contractor and TSA.

TSA estimates that there will be approximately 619,807 respondents to this TWIC information collection. The current estimated annualized hour burden is 573,168 hours.

Dated: December 5, 2024.
Christina A. Walsh,
TSA Paperwork Reduction Act Officer, Information Technology.

[FR Doc. 2024-29162 Filed 12-11-24; 8:45 am]

BILLING CODE 9110-05-P